NATIONAL ARCHIVES AND RECORDS ADMINISTRATION

Appraisal Guidelines for Federal Research and Development Records; Request for Comment

AGENCY: National Archives and Records Administration (NARA).

ACTION: Notice of availability of document; request for comment.

SUMMARY: NARA is seeking public comment on the draft Appraisal Guidelines for Federal Research and Development Records. This document supplements NARA's Appraisal Policy, which is available on the NARA Web site at http://www.archives.gov/records_management/initiatives/appraisal.html. For a paper copy of the Appraisal Policy, contact the person listed in FOR FURTHER INFORMATION CONTACT.

DATES: Comments must be received by April 28, 2005.

ADDRESSES: Please send your comments by e-mail to comments@nara.gov or by fax to 301-837-0319 or by mail to NPOL, National Archives and Records Administration, Room 4100, 8601 Adelphi Rd, College Park, MD 20740-6001

FOR FURTHER INFORMATION CONTACT: Nancy Allard at 301-837-1477 or via e-mail at nancy.allard@nara.gov.

SUPPLEMENTARY INFORMATION: The Strategic Plan of the National Archives and Records Administration (NARA) states that NARA will ensure ready access to essential evidence that documents the rights of American citizens, the actions of Federal officials, and the national experience. The NARA Appraisal Policy (found at http://www.archives.gov/records_management/initiatives/appraisal.html) sets out the strategic framework, objectives, and guidelines that the National Archives and Records Administration uses to determine whether Federal records have archival value. It also provides more specific guidelines for appraising the continuing historical value of certain categories of records. The draft guidelines at the end of this notice concern appraisal of research and development records. NARA developed these draft guidelines after conducting a series of site visits to Federal agency R&D facilities and consulting stakeholder agencies.

Dated: March 8, 2005.
Nancy Allard,
Federal Register Liaison.

Draft Appraisal Guidelines for Federal Research and Development (R&D) Records

Research and development (R&D) records relate to the planning and execution of basic and applied research in engineering and the physical and natural sciences. Basic research seeks to generate new knowledge, and applied research uses the results of basic research and applies them to the design, development, and testing of new products and processes. Agency R&D programs tend to be large in scale, expending hundreds of millions of dollars annually and generating voluminous records. Records pertain to such research fields as biology, chemistry, medicine, physics, materials science, aerospace technology, weapons development, computer science, energy development, and environmental protection.

Appraisal of the records requires an understanding of the entire R&D business process, including the project/product lifecycle and use of outside entities for review or support. Most R&D conducted by or for the Federal government follows a standard workflow based on the scientific method. The basic steps include formulating a hypothesis or statement of need, obtaining approval and/or funding, designing and conducting experiments and analyzing results, and disseminating findings. Records created and accumulated by these steps can be separated into the following categories: program management records covering the processes of formulation, selection, and funding; project records covering design, collection, analysis, and reporting; and dissemination of findings. Types of records found under these categories include planning records, project files, procurement and financial records, laboratory notebooks, research data, and technical reports and similar publications.

The status and availability of records produced by a project often depend upon the funding arrangement. Records of projects funded by contracts generally are Federal records and, in conformance with the contract requirements, may be maintained by either the contractor or the funding agency. By contrast, the primary records of grant-funded projects usually are not considered to be Federal records and are maintained by the grantee. Recordkeeping for collaborative projects is affected by the diversity of funding sources and institutions (including non-Federal institutions) involved. Records of collaborative projects are thus generally kept by multiple institutions, often with no single one maintaining a complete project file. As a result, it may be difficult to determine which institution is responsible for the records and their disposition.

Appraisal Considerations

• Program management records that document the planning, policies, and priorities of research programs usually are appraised as permanent. Such records may be maintained by offices with agencywide R&D responsibilities, by individual divisions and laboratories, and by scientific and technical advisory bodies.

• Technical reports, conference proceedings, and similar publications that disseminate the findings, methodology, and conclusions of projects are usually appraised as permanent and are often maintained centrally by an agency component responsible for their collection, management, and distribution. Review of a cross-section of such publications can help determine the subject matter and scope of R&D projects and thereby prove useful in assessing the value of other project-related records and data.

• Project files may include such records as statements of work, progress reports, briefing papers and presentations, specifications and drawings, laboratory notebooks, research data, and environmental and safety information. (Such records also may be maintained separate from project files.) The value of project files varies across R&D programs, based on such factors as the files' organization and content, nature and scope of the research, and extent to which project work is documented in other records such as planning records and technical reports.

• Because many R&D projects have a very limited focus and project records often are voluminous, a very strong justification is needed to appraise all of an agency's project files as permanent. If selection criteria are to be applied to identify files for permanent retention, the agency must devise a practical arrangement for applying the criteria to the records and agree to implement it, because NARA lacks the expertise and resources to evaluate the files individually. For overall guidance on when to apply selection criteria, see the NARA Appraisal Policy, Appendix 1—General Appraisal Guidelines—“Is sampling an appropriate appraisal tool?” (http://www.archives.gov/records_management/initiatives/appraisal.html).

• Contracting, procurement and other fiscal records generally are appraised as temporary when readily segregable from other project records.

• Laboratory notebooks may be maintained separately and formally issued and strictly controlled to protect intellectual property and patent rights. Notebooks with these characteristics are more likely to be appraised as having long-term scientific value or permanent value.

• Research data created by R&D projects most often are electronic but also may be in another format such as paper or photographs. Electronic data generally are maintained separately from other project records. Data may be unprocessed (raw) or processed (compiled or analyzed) at different levels. Raw data are generated by an experiment, whereas processed data consist of raw data manipulated to help identify patterns in the data. It is very difficult to generalize about the value of processed data as opposed to raw data, since they each have their own significance for the research process.

• Generated in large volumes, R&D data commonly have short-term value because they tend to be narrow in scope and frequently can be replicated by a new experiment if necessary. Data may have long-term scientific value (or, very rarely, permanent value) when they are extremely difficult or impossible to replicate and are potentially useful for such purposes as permitting an important experiment to be reviewed and validated, supporting new scientific research, or providing a legal basis for health-related claims. Data from certain fields like medicine and environmental protection are most likely to have long-term scientific value.

• For data to be valuable over the long term, they should be unique, complete, valid, and accompanied by appropriate metadata. In considering these attributes of data, appraisers should consult with the relevant scientific experts. Because of the expertise needed to perform preservation and reference, data with long-term scientific value often are most appropriately maintained by the R&D agencies which created them.

• R&D agencies, particularly those involved in environmental or health research, may create tissue samples, slides, and specimens which are treated by researchers as project records and preserved by the agency for long periods at substantial expense. Although NARA generally does not consider such materials to meet the definition of Federal records, agencies nonetheless need to manage them properly because of their importance to R&D programs and potential for long-term scientific value.

[FR Doc. 05-4940 Filed 3-11-05; 8:45 am]

BILLING CODE 7515-01-P